DEPARTMENT OF ENERGY

Federal Energy Regulatory Commission

[Docket Nos. CP08-430-000]

Transcontinental Gas Pipe Line Corporation; Notice of Amendment Application

July 1, 2008.

On June 23, 2008, Transcontinental Gas Pipe Line Corporation (Transco), pursuant to section 7(c) of the Natural Gas Act, as amended, and section 157 Subpart A of the Federal Energy Regulatory Commission's (Commission) regulations, filed to amend its certificate. The requested amendment, the Eminence Enhancement Project, would add an additional 4,735 horsepower compressor unit and appurtenant facilities to provide enhanced injection rights to nine customers participating in the Eminence salt dome Storage Field in Covington County, Mississippi. The Eminence Enhancement Project would cost $19.3 million. So that the facilities are available to meet user timing needs, Transco requests Commission issuance of the necessary authorizations by February 1, 2009.

Questions concerning this application should be directed to Ingrid Germany at Transcontinental Gas Pipe Line Corporation, P.O. Box 1396, Houston, Texas 77251 or by calling 713-215-4015.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 22, 2008.

Kimberly D. Bose,
Secretary.

[FR Doc. E8-15428 Filed 7-7-08; 8:45 am]

BILLING CODE 6717-01-P